ENVIRONMENTAL PROTECTION AGENCY

[FRL-7943-8]

Science Advisory Board (SAB) Staff Office, Notification of Upcoming Meetings of the Science Advisory Board Arsenic Review Panel

AGENCY: Environmental Protection Agency (EPA).

ACTION: Notice.

SUMMARY: The EPA Science Advisory Board (SAB) Staff Office announces a public teleconference and a public face-to-face meeting of the SAB Arsenic Review Panel.

DATES: August 11, 2005: The Panel will hold a public teleconference on August 11, 2005, from 1 p.m. to 3 p.m. (e.s.t.). September 12 -13, 2005: The Panel will hold a public face-to-face meeting starting September 12 & September 13, 2005, at 8:30 a.m., adjourning at approximately 5 p.m. (e.s.t.) on September 12 & 13, 2005.

ADDRESSES: The public teleconference will take place via telephone only. The public face-to-face meeting of the SAB Arsenic Review Panel will be held at the Doubletree Hotel, located at 1515 Rhode Island Avenue, NW., Washington, DC 20005.

FOR FURTHER INFORMATION CONTACT: Members of the public who wish to obtain the call-in number and access code to participate in the teleconference may contact Mr. Tom Miller, Designated Federal Officer, Science Advisory Board Staff Office (1400F), U.S. Environmental Protection Agency, 1200 Pennsylvania Avenue, NW.; Washington, DC 20460; telephone/voice mail: (202) 343-9982 or via e-mail at miller.tom@epa.gov. Technical Contact: The technical contact in EPA's Office of Research and Development (ORD) is Dr. Reeder Sams, who can be reached via e-mail at sams.reeder@epa.gov or via telephone/voice mail: (919) 541-0661.

SUPPLEMENTARY INFORMATION:

Background

Human exposure to arsenic compounds can be through various environmental media including drinking water, food, soil and air and anthropogenic sources such as wood preservatives and industrial wastes. Additionally, humans are exposed to organic arsenic when they are used as pesticides (e.g., monomethylarsenic acid and dimethylarsenic acid or cacodylic acid). EPA regulates various sources of environmental exposures to arsenic compounds including establishing national standards in public drinking water supplies under the Safe Drinking Water Act (SDWA) and setting food tolerance limits as mandated by the Food Quality Protection Act (FQPA). EPA's Office of Research and Development (ORD) requested the SAB to provide advice on scientific issues underlying the Agency's assessments of the carcinogenic potential of arsenic compounds. In response to EPA's request, the SAB Staff Office formed a SAB Review Panel for Arsenic. Background information on the formation of the SAB Arsenic Panel can be found in the Federal Register Vol. 70, Number 35, page 8803-8804. This panel will provide advice and recommendations to EPA through the Chartered SAB and comply with the provisions of the Federal Advisory Committee Act (FACA) and all appropriate SAB procedural policies.

Pursuant to the Federal Advisory Committee Act, Public Law 92-463, notice is hereby given that the SAB Arsenic Review Panel will hold a public teleconference and a face-to-face meeting. The purpose of the August 11, 2005 public teleconference is for the SAB Arsenic Review Panel to discuss the draft charge questions and the agenda for the September face-to-face meeting. The purpose of the September 12-13, 2005 face-to-face meeting is for the Arsenic Review Panel to discuss its response to the Agency's charge.

Availability of Meeting Materials: A final roster of the SAB Arsenic Review Panel, meeting agendas, and charge questions to the SAB will be posted on the SAB Web site (http://www.epa.gov/sab/) prior to the meeting. EPA's “Toxicological Review of Inorganic Arsenic” and related background information on inorganic arsenic may be found at: http://www.epa.gov/waterscience/sab/. The technical contact for the above information on inorganic arsenic is Dr. Elizabeth Doyle, (202) 566-0056, of the Office of Water. EPA's assessment for organic arsenic, entitled “Science Issue Paper: Cancer Mode of Action of Cacodylic Acid (Dimethylarsinic Acid, DMAV)” and Recommendations for Dose Response Extrapolation” and other related background information on organic arsenic may be found at: http://www.epa.gov/oppsrrd1/reregistration/cacodylic_acid/. The technical contact for the above information on organic arsenic is Dr. Anna Lowit, (703) 308-4135, of the Office of Pesticide Programs.

Procedures for Providing Public Comment: The EPA Science Advisory Board (SAB) Staff Office accepts written public comments and will accommodate oral public comments, whenever possible. Requests to provide oral comments at August 11 public teleconference or the September 12-13 meeting must be made in writing (e-mail, fax or mail) and received by Mr. Miller no later than August 4 and September 2, respectively. Oral Comments: For the teleconference, oral comments will be limited to no more than five minutes per speaker or organization. For the face-to-face meeting, opportunities for oral comments will be limited to no more than ten minutes per speaker or organization. Speakers should bring at least 75 copies of their comments and presentation slides for distribution to the reviewers and public at the meeting. Written Comments: Written comments should be received in the SAB Staff Office so that the comments may be made available to the committee for their consideration. Comments should be supplied to the DFO at the address/contact information noted above in the following formats: one hard copy with original signature and one electronic copy via e-mail (acceptable file format: Adobe Acrobat, WordPerfect, Word, or Rich Text files (in IBM-PC/Windows 98/2000/XP format).

Dated: June 19, 2005.
Anthony F. Maciorowski,
Acting Director, EPA Science Advisory Board Staff Office.

[FR Doc. 05-14732 Filed 7-25-05; 8:45 am]

BILLING CODE 6560-50-P